DEPARTMENT OF TRANSPORTATION

Federal Aviation Administration

14 CFR Part 39

[Docket No. FAA-2009-0987; Directorate Identifier 2009-CE-054-AD; Amendment 39-16143; AD 2009-26-08]

RIN 2120-AA64

Airworthiness Directives; AeroSpace Technologies of Australia Pty Ltd Models N22B, N22S, and N24A Airplanes

AGENCY: Federal Aviation Administration (FAA), Department of Transportation (DOT).

ACTION: Final rule.

SUMMARY: We are superseding an existing airworthiness directive (AD) for the products listed above. This AD results from mandatory continuing airworthiness information (MCAI) issued by an aviation authority of another country to identify and correct an unsafe condition on an aviation product. The MCAI describes the unsafe condition as:

Late in 2002 the manufacturer advised CASA of another Nomad accident which was possibly caused by aileron flutter with the flaps at 38 degrees. This, along with the other flutter incidents, has resulted in the manufacturer issuing ANMD-57-18 Issue 1 as a precautionary measure while they further investigate the issue.

The manufacturer has now completed their investigation and issued Alert Service Bulletin ANMD-27-53 to modify flap actuation linkages to restore the necessary rigidity to the outboard flap, and hence the aileron. The unacceptable flexibility of the outboard flap mechanism allows flutter to occur in extreme circumstances.

We are issuing this AD to require actions to correct the unsafe condition on these products.

DATES: This AD becomes effective February 1, 2010.

On February 1, 2010, the Director of the Federal Register approved the incorporation by reference of Nomad Alert Service Bulletin ANMD-27-53, dated February 20, 2008, listed in this AD.

As of November 8, 2006 (71 FR 61636, October 19, 2006), the Director of the Federal Register approved the incorporation by reference of Nomad Alert Service Bulletin ANMD-57-18, Rev 1, dated August 14, 2006, listed in this AD.

ADDRESSES: You may examine the AD docket on the Internet at http://www.regulations.gov or in person at the Docket Management Facility, U.S. Department of Transportation, Docket Operations, M-30, West Building Ground Floor, Room W12-140, 1200 New Jersey Avenue, SE., Washington, DC 20590.

FOR FURTHER INFORMATION CONTACT: Doug Rudolph, Aerospace Engineer, FAA, Small Airplane Directorate, 901 Locust, Room 301, ACE-112, Kansas City, Missouri 64106; telephone: (816) 329-4059; fax: (816) 329-4090; e-mail: doug.rudolph@faa.gov.

SUPPLEMENTARY INFORMATION:

Discussion

We issued a notice of proposed rulemaking (NPRM) to amend 14 CFR part 39 to include an AD that would apply to the specified products. That NPRM was published in the Federal Register on October 22, 2009 (74 FR 54498), and proposed to supersede AD 2006-21-12, Amendment 39-14797 (71 FR 61636, October 19, 2006). That NPRM proposed to correct an unsafe condition for the specified products. The MCAI states that:

Late in 2002 the manufacturer advised CASA of another Nomad accident which was possibly caused by aileron flutter with the flaps at 38 degrees. This, along with the other flutter incidents, has resulted in the manufacturer issuing ANMD-57-18 Issue 1 as a precautionary measure while they further investigate the issue.

The manufacturer has now completed their investigation and issued Alert Service Bulletin ANMD-27-53 to modify flap actuation linkages to restore the necessary rigidity to the outboard flap, and hence the aileron. The unacceptable flexibility of the outboard flap mechanism allows flutter to occur in extreme circumstances.

This amendment mandates Alert Service Bulletin ANMD-27-53, which requires modifications to the aircraft, but terminates the limitations imposed by earlier amendments.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

Costs of Compliance

We estimate that this AD will affect 15 products of U.S. registry. We also estimate that it will take about 73 work-hours per product to comply with the basic requirements of this AD. The average labor rate is $80 per work-hour. Required parts will cost about $15,100 per product. Based on these figures, we estimate the cost of this AD to the U.S. operators to be $314,100, or $20,940 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14797 (71 FR 61636, October 19, 2006) and adding the following new AD:

2009-26-08 AeroSpace Technologies of Australia Pty Ltd: Amendment 39-16143; Docket No. FAA-2009-0987; Directorate Identifier 2009-CE-054-AD.

Effective Date

(a) This airworthiness directive (AD) becomes effective February 1, 2010.

Affected ADs

(b) This AD supersedes AD 2006-21-12, Amendment 39-14797.

Applicability

(c) This AD applies to Models N22B, N22S, and N24A airplanes, all serial numbers, including airplanes with float/amphibian configuration, certificated in any category.

Subject

(d) Air Transport Association of America (ATA) Code 27: Flight Controls

Reason

(e) The mandatory continuing airworthiness information (MCAI) states:

Late in 2002 the manufacturer advised CASA of another Nomad accident which was possibly caused by aileron flutter with the flaps at 38 degrees. This, along with the other flutter incidents, has resulted in the manufacturer issuing ANMD-57-18 Issue 1 as a precautionary measure while they further investigate the issue.

The manufacturer has now completed their investigation and issued Alert Service Bulletin ANMD-27-53 to modify flap actuation linkages to restore the necessary rigidity to the outboard flap, and hence the aileron. The unacceptable flexibility of the outboard flap mechanism allows flutter to occur in extreme circumstances.

This amendment mandates Alert Service Bulletin ANMD-27-53, which requires modifications to the aircraft, but terminates the limitations imposed by earlier amendments.

Actions and Compliance

(f) Unless already done, do the following actions:

(1) Visually inspect the left-hand and right-hand ailerons for damage (i.e., distortion, bending, impact marks) and repair or replace any damaged aileron found following instructions obtained from the contact listed in paragraph (i)(3) of this AD within the following time:

(i) For Models N22B and N24A airplanes: Inspect within 50 hours time-in-service (TIS) after December 23, 2003 (the effective date retained from AD 2003-22-13).

(ii) For Model N22S airplanes: Inspect within the next 10 hours TIS after November 8, 2006 (the effective date retained from AD 2006-21-12), or within 30 days after November 8, 2006 (the effective date retained from AD 2006-21-12), whichever occurs first.

(iii) For all airplanes: Repair or replace before further flight after the inspection where damage is found.

(2) Adjust the engine power lever actuated landing gear “up” aural warning microswitches, perform a ground test, and if deficiencies are detected during the ground test, make the necessary adjustments following Nomad Alert Service Bulletin ANMD-57-18, Rev 1, dated August 14, 2006, within the following time:

(i) For Models N22B and N24A airplanes: Within 50 hours TIS after December 23, 2003 (the effective date retained from AD 2003-22-13), unless already done following Nomad Alert Service Bulletin ANMD 57-18, dated December 19, 2002.

(ii) For Model N22S airplanes: Within the next 10 hours TIS after November 8, 2006 (the effective date retained from AD 2006-21-12), or within 30 days after November 8, 2006 (the effective date retained from AD 2006-21-12), whichever occurs first.

(3) For all airplanes: Do the following within the next 10 hours TIS after February 1, 2010 (the effective date of this AD) or within 30 days after February 1, 2010 (the effective date of this AD), whichever occurs first:

(i) Incorporate the maximum flap extension limitations specified in paragraph 2.D. of Nomad Alert Service Bulletin ANMD-57-18, Rev 1, dated August 14, 2006, into the Limitations section of the airplane flight manual (AFM). To show compliance with this paragraph of this AD, a copy of page 7 of Nomad Alert Service Bulletin ANMD-57-18, Rev 1, dated August 14, 2006, may be inserted into the Limitations section of the AFM. You may take “unless already done credit” for this subparagraph if done in accordance with AD 2006-21-12 and no further action is required to comply with this subparagraph.

(ii) Fabricate (using at least 1/8-inch letters) and install placards on the instrument panel within the pilot's clear view as specified in paragraph 2.E. of Nomad Alert Service Bulletin ANMD-57-18, Rev 1, dated August 14, 2006. You may take “unless already done credit” for this subparagraph if done in accordance with AD 2006-21-12 and no further action is required to comply with this subparagraph.

(iii) Incorporate the landing performance information specified in paragraph 2.F. of Nomad Alert Service Bulletin ANMD-57-18, Rev 1, dated August 14, 2006, into the Limitations section and the Performance section of the AFM.

(4) For all airplanes: Modify the outboard forward flap linkage (Modification N953) and modify the outboard aft flap (aileron) mass balance following Nomad Alert Service Bulletin ANMD-27-53, dated February 20, 2008, within the next 12 months after February 1, 2010 (the effective date of this AD). Accomplishment of all of the actions specified in Nomad Alert Service Bulletin ANMD-27-53, dated February 20, 2008, terminates the limitations requirements and the placard requirements specified in paragraph (f)(3) of this AD.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to Attn: Doug Rudolph, Aerospace Engineer, FAA, Small Airplane Directorate, 901 Locust, Room 301, Kansas City, Missouri 64106; telephone: (816) 329-4059; fax: (816) 329-4090; e-mail: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI Civil Aviation Safety Authority of Australia, AD number AD/GAF-N22/69 Amdt 6, dated September 10, 2009; Nomad Alert Service Bulletin ANMD-27-53, dated February 20, 2008; and Nomad Alert Service Bulletin ANMD-57-18, Rev 1, dated August 14, 2006, for related information.

Material Incorporated by Reference

(i) You must use Nomad Alert Service Bulletin ANMD-27-53, dated February 20, 2008, and Nomad Alert Service Bulletin ANMD-57-18, Rev 1, dated August 14, 2006, to do the actions required by this AD, unless the AD specifies otherwise.

(1) The Director of the Federal Register approved the incorporation by reference of Nomad Alert Service Bulletin ANMD-27-53, dated February 20, 2008, under 5 U.S.C. 552(a) and 1 CFR part 51.

(2) On November 8, 2006 (71 FR 61636, October 19, 2006), the Director of the Federal Register previously approved the incorporation by reference of Nomad Alert Service Bulletin ANMD-57-18, Rev 1, dated August 14, 2006.

(3) For service information identified in this AD, contact Customer Support Manager, Gippsland Aeronautics Pty Ltd., P.O. Box 881, MORWELL, Victoria, 3040, Australia; phone: +61 3 5172 1200; fax: +61 3 5172 1201; e-mail: support@gippsaero.com.

(4) You may review copies of the service information incorporated by reference for this AD at the FAA, Central Region, Office of the Regional Counsel, 901 Locust, Kansas City, Missouri 64106. For information on the availability of this material at the Central Region, call (816) 329-3768.

(5) You may also review copies of the service information incorporated by reference for this AD at the National Archives and Records Administration (NARA). For information on the availability of this material at NARA, call (202) 741-6030, or go to: http://www.archives.gov/federal_register/code_of_federal_regulations/ibr_locations.html.

Issued in Kansas City, MO, on December 11, 2009.
Margaret Kline,
Acting Manager, Small Airplane Directorate, Aircraft Certification Service.

[FR Doc. E9-30000 Filed 12-24-09; 8:45 am]

BILLING CODE 4910-13-P